DEPARTMENT OF THE INTERIOR

Bureau of Land Management

[LLMTB010-L16100000-DP0000]

Notice of Availability of the Draft Missoula Resource Management Plan and Associated Environmental Impact Statement, Montana

AGENCY: Bureau of Land Management, Interior.

ACTION: Notice of availability.

SUMMARY: In accordance with the National Environmental Policy Act of 1969, as amended, and the Federal Land Policy and Management Act of 1976, as amended, the Bureau of Land Management (BLM) Missoula Field Office has prepared a Draft Resource Management Plan (RMP) with an associated Draft Environmental Impact Statement (EIS) for BLM public lands and resources managed by the Missoula Field Office and by this notice is announcing the opening of the comment period.

DATES: To ensure that comments will be considered, the BLM must receive written comments on the Draft RMP/Draft EIS within 90 days following the date the Environmental Protection Agency publishes its Notice of Availability of the Draft RMP/Draft EIS in the Federal Register. The BLM will announce future meetings or hearings and any other public participation activities at least 15 days in advance through public notices, media releases, and/or mailings.

ADDRESSES: You may submit comments related to the Missoula Draft RMP/Draft EIS by any of the following methods:

• Website: https://1.usa.gov/21RNCPG.

• Mail: Missoula Field Office Attn: Missoula RMP, 3255 Fort Missoula Road, Missoula, MT 59804.

Copies of the Missoula Draft RMP/Draft EIS are available at the Missoula Field Office at the above address, or may be viewed at: https://1.usa.gov/21RNCPG.

FOR FURTHER INFORMATION CONTACT: Maggie Ward, RMP Project Manager, Missoula Field Office, at (406) 329-3914, at the above mailing list or website. Persons who use a telecommunications device for the deaf (TDD) may call the Federal Relay Service (FRS) at 1-800-877-8339 to contact Ms. Ward during normal business hours. The FRS is available 24 hours a day, 7 days a week, to leave a message or question. You will receive a reply during normal business hours.

SUPPLEMENTARY INFORMATION: The Missoula Draft RMP/Draft EIS covers approximately 163,000 acres of BLM-managed public lands and 267,000 acres of Federal mineral estate in western Montana in Flathead, Granite, Lake, Lincoln, Mineral, Missoula, Powell, Ravalli, and Sanders counties. Over 99 percent of the BLM-managed public lands are in Granite, Missoula and Powell counties. The planning area is currently managed under the Garnet Resource Area RMP (1986). This planning effort would update management guidance from the Garnet Resource Area RMP, as amended, and create a new Missoula RMP.

The planning effort is needed to identify goals, objectives, and management actions for the BLM-managed public lands. Public involvement opportunities occurred during scoping to help identify planning issues that directed the formulation of alternatives and framed the scope of analysis in the Draft RMP/Draft EIS. Key issues identified included forest vegetation management, wildland fire resiliency and management, forest products, Threatened and Endangered species management, big game habitat management, livestock grazing, access, recreation management, and special designation management including the Lewis and Clark National Historic Trail. This plan also considers lands with wilderness characteristics, wild and scenic rivers, Areas of Critical Environmental Concern (ACECs), lands and realty, minerals, and visual resources.

The Draft RMP/Draft EIS evaluates three alternatives in detail. Alternative A is the No Action Alternative, which is a continuation of current management in the existing Garnet Resource Area RMP (1986).

Alternative B is the agency preferred alternative. Alternative B focuses on active forest management and allows for the broadest range of management tools to provide forest products and meet forest management objectives. Alternative B provides for moving forest vegetative communities to the natural range of variability to provide for priority wildlife habitat and sustainable forest products at a greater rate with increased forest treatments. Alternative B allows more lands to be available for livestock grazing as a management tool. Alternative B allocates the most acres of special recreation management areas.

Alternative C would have less active forest management and emphasizes priority areas for wildlife habitat and vegetation, while allowing for modest development of forest resources. Alternative C aims to move forested ecosystems towards the natural range of variability with an emphasis on natural processes and less active management (lower amounts of forest treatments). Alternative C focuses on wildlife-dependent recreation with four Backcountry Conservation Areas aimed at hunting, fishing, and big game habitat objectives. Alternative C identifies a wider corridor for the Lewis and Clark National Historic Trail.

Pursuant to 43 CFR 1610.7-2(b), this notice announces a concurrent public comment period for potential ACECs. The proposed ACECs include:

• Bear Creek Flats: (565 acres) Alternative A;

• Limestone Cliffs: (20 acres) Alternatives A and C; and

• Phil Wright Rock: (640 acres) Alternatives B and C.

The ACECs are proposed to protect biological, botanical, geologic, recreational and scenic values. If formally designated, the following management prescriptions could apply to potential ACECs, depending on proposed management prescriptions for each proposed ACEC: Avoid or exclude ROWs; close to non-energy solid leasable mineral leasing; close to mineral materials disposal; recommend withdrawal of locatable mineral development; close to saleable mineral development; manage for higher visual resource values; close or limit motorized and/or off-highway vehicle travel to designated routes; close to commercial timber harvest.

Before including your address, phone number, email address, or other personal identifying information in your comment, you should be aware that your entire comment—including your personal identifying information—may be made publicly available at any time. While you can ask us in your comment to withhold your personal identifying information from public review, we cannot guarantee that we will be able to do so.

Authority: 40 CFR 1506.6 and 43 CFR 1610.2.

Donato J. Judice,
Acting State Director.

[FR Doc. 2019-10147 Filed 5-16-19; 8:45 am]

BILLING CODE 4310-DN-P